DEPARTMENT OF THE INTERIOR

National Park Service

[NPS-WASO-NAGPRA-20579]; [PPWOCRADN0-PCU00RP14.R50000]

Notice of Inventory Completion: U.S. Department of the Interior, National Park Service, Natchez Trace Parkway, Tupelo, MS; Correction

AGENCY: National Park Service, Interior.

ACTION: Notice; correction.

SUMMARY: The U.S. Department of the Interior, National Park Service, Natchez Trace Parkway has corrected an inventory of human remains and associated funerary objects, published in a Notice of Inventory Completion in the Federal Register on October 16, 2015. This notice corrects the description of funerary objects. Lineal descendants or representatives of any Indian tribe or Native Hawaiian organization not identified in this notice that wish to request transfer of control of these human remains and associated funerary objects should submit a written request to Natchez Trace Parkway. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Natchez Trace Parkway at the address in this notice by May 5, 2016.

ADDRESSES: Mary Risser, Superintendent, Natchez Trace Parkway, 2680 Natchez Trace Parkway, Tupelo, MS 38804-9715, telephone (662) 680-4005, email mary_risser@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Natchez Trace Parkway, Tupelo, MS. The human remains and associated funerary objects were removed from Lee, Prentiss, and Tishomingo Counties, MS.

This notice is published as part of the National Park Service's administrative responsibilities under NAGPRA, 25 U.S.C. 3003(d)(3). The determinations in this notice are the sole responsibility of the Superintendent, Natchez Trace Parkway.

This notice corrects the description of funerary objects published in a Notice of Inventory Completion in the Federal Register (80 FR 62566-62567, October 16, 2015). Re-evaluation of materials in preparation for repatriation revealed that some objects had not been appropriately described. Transfer of control of the items in this correction notice has not occurred.

Correction

In the Federal Register (80 FR 62566-62567, October 16, 2015), column 3, paragraph 3, sentence 4, under the heading “History and Description of Remains” is corrected by substituting the following sentence:

The 22 associated funerary objects are 1 biface, 1 piece of shatter, 1 concretion, 3 Baldwin Plain vessel fragments, 1 untyped vessel fragment, and 15 fossil fragments.

In the Federal Register (80 FR 62566-62567, October 16, 2015), column 3, paragraph 4, sentence 4, under the heading “History and Description of Remains,” is corrected by substituting the following sentence:

The 39 associated funerary objects are 7 Saltillo Fabric Marked vessel fragments, 2 Baldwin Plain vessel fragments, 5 untyped vessel fragments, 7 projectile points, 1 Lowe Cluster projectile point, 3 bifaces, 4 flakes, 1 platform pipe, 1 busycon shell, 1 chert knife, 1 piece of shatter, 1 unmodified stone, 2 flake tools, 2 Baldwin Plain bowls, and 1 Furrs Cord Marked jar.

Additional Requestors and Disposition

Lineal descendants or representatives of any Indian tribe or Native Hawaiian organization not identified in this notice that wish to request transfer of control of these human remains and associated funerary objects should submit a written request with information in support of the request to Mary Risser, Superintendent, Natchez Trace Parkway, 2680 Natchez Trace Parkway, Tupelo, MS 38804-9715, telephone (662) 680-4005, email mary_risser@nps.gov, by May 5, 2016. After that date, if no additional requestors have come forward, transfer of control of the human remains and associated funerary objects to The Chickasaw Nation may proceed.

Natchez Trace Parkway is responsible for notifying the Alabama-Coushatta Tribe of Texas, The Chickasaw Nation, and the United Keetoowah Band of Cherokee Indians in Oklahoma that this notice has been published.

Dated: March 10, 2016.
Melanie O'Brien,
Manager, National NAGPRA Program.

[FR Doc. 2016-07772 Filed 4-4-16; 8:45 am]

BILLING CODE 4310-70-P